DEPARTMENT OF ENERGY

Federal Energy Regulatory Commission

[Docket No. EL01-76-000]

The State of Michigan and the Michigan Public Service Commission v. Wolverine Power Supply Cooperative, Inc.; Notice of Complaint

May 10, 2001.

Take notice that on May 9, 2001, the State of Michigan and the Michigan Public Service Commission (collectively, Michigan) tendered for filing a Complaint under Section 206 of the Federal Power Act in which Michigan petitions the Commission to institute an investigation to determine the just and reasonable level of wholesale rates for Wolverine Power Supply Cooperative, Inc. (Wolverine). Michigan has requested a refund effective date of July 8, 2001.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before May 29, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before May 29, 2001. Comments, protests and interventions may be filed electronically via the internet in lieu of paper. See, 18 CFR 385.2001(a)(1)(iii) and the instructions on the Commission's web site at http://www.ferc.fed.us/efi/doorbell.htm.

David P. Boergers,
Secretary.

[FR Doc. 01-12298 Filed 5-15-01; 8:45 am]

BILLING CODE 6717-01-M